DEPARTMENT OF HEALTH AND HUMAN SERVICES

Food and Drug Administration

[Docket No. 01N-0450]

Prescription Drug User Fee Act (PDUFA); Public Meeting; Correction

AGENCY: Food and Drug Administration, HHS.

ACTION: Notice of public meeting; correction.

SUMMARY: The Food and Drug Administration (FDA) is correcting a notice that appeared in the Federal Register of Monday, November 19, 2001 (66 FR 57967). The document announced a public meeting on the Prescription Drug User Fee Act (PDUFA). The document published with an inadvertent error. This document corrects that error.

FOR FURTHER INFORMATION CONTACT: Doris B. Tucker, Office of Policy, Planning, and Legislation (HF-27), Food and Drug Administration, 5600 Fishers Lane, Rockville, MD 20857, 301-827-7010.

SUPPLEMENTARY INFORMATION: In FR Doc. 01-29002, appearing in the Federal Register of Monday, November 19, 2001, the following correction is made: On page 57968, in the first column, in lines 8, 9, and 10, of the first incomplete paragraph,“http://www.accessdata.fda.gov/scripts/oc/dockets/meetings/meetingdockets.cfm” is corrected to read “http://www.accessdata.fda.gov/scripts/oc/dockets/meetings/meetingdocket.cfm.”

Dated: November 26, 2001.
Margaret M. Dotzel,
Associate Commissioner for Policy.

[FR Doc. 01-29804 Filed 11-29-01; 8:45 am]

BILLING CODE 4160-01-S